SECURITIES AND EXCHANGE COMMISSION

[Release No. 34- 93733; File Nos. SR-MIAX-2021-41, SR-PEARL-2021-45]

Self-Regulatory Organizations; Miami International Securities Exchange LLC, MIAX PEARL, LLC; Notice of Withdrawal of Proposed Rule Changes to Amend the Fee Schedules To Adopt a Tiered-Pricing Structure for Certain Connectivity Fees

December 7, 2021.

On September 24, 2021, Miami International Securities Exchange LLC (“MIAX”) and MIAX PEARL, LLC (“MIAX Pearl”) (collectively, the “Exchanges”) each filed with the Securities and Exchange Commission (“Commission”), pursuant to Section 19(b)(1) of the Securities Exchange Act of 1934 (“Act”),¹ and Rule 19b-4 thereunder,² a proposed rule change (File Numbers SR-MIAX-2021-41 and SR-PEARL-2021-45) to amend the MIAX Fee Schedule and MIAX Pearl Options Fee Schedule to adopt a tiered pricing structure for certain connectivity fees.

¹ 15 U.S.C. 78s(b)(1).

² 17 CFR 240.19b-4.

The proposed rule changes were immediately effective upon filing with the Commission pursuant to Section 19(b)(3)(A) of the Act.³ The proposed rule changes were published for comment in the Federal Register on October 4, 2021.⁴ On November 22, 2021, the Commission temporarily suspended the proposed rule changes and instituted proceedings under Section 19(b)(2)(B) of the Act ⁵ to determine whether to approve or disapprove the proposed rule changes.⁶ On December 1, 2021, the Exchanges withdrew the proposed rule changes (SR-MIAX-2021-41 and SR-PEARL-2021-45).

³ 15 U.S.C. 78s(b)(3)(A). A proposed rule change may take effect upon filing with the Commission if it is designated by the exchange as “establishing or changing a due, fee, or other charge imposed by the self-regulatory organization on any person, whether or not the person is a member of the self-regulatory organization.” 15 U.S.C. 78s(b)(3)(A)(ii).

⁴ See Securities Exchange Act Release Nos. 93165 (September 28, 2021), 86 FR 54750 (SR-MIAX-2021-41); 93162 (September 28, 2021), 86 FR 54739 (SR-PEARL-2021-45). Comments received on the proposed rule changes are available on the Commission's website at: https://www.sec.gov/comments/sr-miax-2021-41/srmiax202141.htm (SR-MIAX-2021-41); https://www.sec.gov/comments/sr-pearl-2021-45/srpearl202145.htm (SR-PEARL-2021-45).

⁵ 15 U.S.C. 78s(b)(2)(B).

⁶ See Securities Exchange Act Release No. 93639, 86 FR 67758 (November 29, 2021).

For the Commission, by the Division of Trading and Markets, pursuant to delegated authority.⁷
⁷ 17 CFR 200.30-3(a)(12).
J. Matthew DeLesDernier,
Assistant Secretary.

[FR Doc. 2021-26861 Filed 12-13-21; 8:45 am]

BILLING CODE 8011-01-P